DEPARTMENT OF THE INTERIOR

Bureau of Ocean Energy Management

[MMAA104000]

Outer Continental Shelf (OCS) Geological and Geophysical Exploration Activities in the Gulf of Mexico; Correction

AGENCY: Bureau of Ocean Energy Management (BOEM), Interior.

ACTION: Notice of Intent; Notice of Scoping Meetings; and Request for Scoping Comments; Correction.

SUMMARY: On May 10, 2013, BOEM published a document in the Federal Register (78 FR 27427) entitled “Outer Continental Shelf Geological and Geophysical Exploration Activities in the Gulf of Mexico.” This notice corrects the date for closing of the public comment period, as previously published.

DATES: Effective immediately, comments should be submitted no later than July 9, 2013.

FOR FURTHER INFORMATION CONTACT: For information on this notice or the public scoping meetings, contact Ms. Beth Nord, BOEM, Gulf of Mexico OCS Region, 1201 Elmwood Park Boulevard (GM 623E), New Orleans, Louisiana 70123-2394, telephone (504) 736-2995. For information on BOEM's policies associated with this notice, contact Mr. Gary Goeke, Section Chief, Regional Assessment Section, Office of Environment (GM 623E), BOEM, Gulf of Mexico OCS Region, 1201 Elmwood Park Boulevard, New Orleans, Louisiana 70123-2394, telephone (504) 736-3233. For information on the National Marine Fisheries Service (NMFS) policies associated with this notice, contact Mr. Howard Goldstein, Office of Protected Resources, NMFS, National Oceanic and Atmospheric Administration, 1315 East-West Highway, Silver Spring, Maryland 20910, telephone (301) 427-8401.

Dated: May 28, 2013.
Tommy P. Beaudreau,
Director, Bureau of Ocean Energy Management.

[FR Doc. 2013-13248 Filed 6-4-13; 8:45 am]

BILLING CODE 4310-MR-P